DEPARTMENT OF ENERGY

Federal Energy Regulatory Commission

Combined Notice of Filings #2

Take notice that the Commission received the following electric rate filings:

Docket Numbers: ER10-2172-006; ER10-2174-006; ER10-2176-006; ER10-2180-006; ER10-2178-006; ER10-2192-006; ER10-2184-006; ER10-1734-003.

Applicants: Constellation Energy Commodities Group, Inc., Baltimore Gas and Electric Company, Constellation Power Source Generation, Inc., Handsome Lake Energy, LLC, Constellation Energy Commodities Group Maine, LLC, CER Generation, LLC, Constellation NewEnergy, Inc., MX Energy Electric Inc.

Description: Supplemental Filing of the Constellation MBR Entities.

Filed Date: 2/29/12.

Accession Number: 20120229-5082.

Comments Due: 5 p.m. ET 3/21/12.

Docket Numbers: ER12-1085-001.

Applicants: Florida Power & Light Company.

Description: Florida Power & Light Company Refund Report to be effective N/A.

Filed Date: 3/8/12.

Accession Number: 20120308-5126.

Comments Due: 5 p.m. ET 3/29/12.

Docket Numbers: ER12-1229-000.

Applicants: PacifiCorp.

Description: WAPA Casper Interconnection Agreement to be effective 5/8/2012.

Filed Date: 3/8/12.

Accession Number: 20120308-5064.

Comments Due: 5 p.m. ET 3/29/12.

Docket Numbers: ER12-1230-000.

Applicants: PJM Interconnection, L.L.C.

Description: Original Service Agreement No. 3252; Queue No. W4-031 to be effective 2/14/2012.

Filed Date: 3/8/12.

Accession Number: 20120308-5067.

Comments Due: 5 p.m. ET 3/29/12.

Docket Numbers: ER12-1231-000.

Applicants: PJM Interconnection, L.L.C.

Description: Original Service Agreement No. 3259; Queue No. X2-033 to be effective 2/20/2012.

Filed Date: 3/8/12.

Accession Number: 20120308-5076.

Comments Due: 5 p.m. ET 3/29/12.

Docket Numbers: ER12-1232-000.

Applicants: Shell Energy North America (US), L.P.

Description: SENA Reassignment of Transmission Rights Tariff to be effective 3/9/2012.

Filed Date: 3/8/12.

Accession Number: 20120308-5087.

Comments Due: 5 p.m. ET 3/29/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2012.
Nathaniel J. Davis, Sr.,
Deputy Secretary.

[FR Doc. 2012-6395 Filed 3-15-12; 8:45 am]

BILLING CODE 6717-01-P